DEPARTMENT OF THE INTERIOR

National Park Service

[NPS-WASO-NRNHL-21277: PPWOCRADI0, PCU00RP14.R50000]

National Register of Historic Places; Notification of Pending Nominations and Related Actions

AGENCY: National Park Service, Interior.

ACTION: Notice.

SUMMARY: The National Park Service is soliciting comments on the significance of properties nominated before June 4, 2016, for listing or related actions in the National Register of Historic Places.

DATES: Comments should be submitted by July 12, 2016.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before June 4, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

ALABAMA

Montgomery County

Wharton—Chappell House, 1020 Maxwell Blvd., Montgomery, 16000445

COLORADO

Arapahoe County

Key Savings and Loan Association Building, 3501 S. Broadway, Englewood, 16000447

Denver County

Peoples Presbyterian Church, 2780 York St., Denver, 16000448

CONNECTICUT

Fairfield County

Westport Center Historic District, Avery Pl., Bay Elm & Main Sts., Imperial & Myrtle Aves., Church & Violet Lns., Post Rd., E., Westport, 16000449

Litchfield County

Baldwin, Amos, House, 92 Goshen St., E., Norfolk, 16000450

GEORGIA

Henry County

Locust Grove Historic District, Centered along GA 42 between Hi-Hope Dr. & Grove Rd., Locust Grove, 16000451

HAWAII

Hawaii County

Christ Church Episcopal and Churchyard, HI 11 at Konawaena School Rd., Kealakekua, 16000452

MASSACHUSETTS

Franklin County

Shelburne Free Public Library, 233 Shelburne Center Rd., Shelburne, 16000453

Suffolk County

Governor Shirley Square Historic District, Dudley, Hampden, Dunmore & Magazine Sts., Blue Hill & Mt. Pleasant Ave., Boston, 16000454

Worcester County

District No. 5 School, 311 East St., Petersham, 16000455

NEW JERSEY

Camden County

Cooper River Park Historic District, Roughly bounded by Kaighn, Roberts, Glover & Narbeth Aves., N. Park, S. Edge Park & S. Park Drs., Kings Hwy., Collingswood Borough, 16000456

NORTH DAKOTA

Grand Forks County

St. Michael's Parochial School, 504 5th Ave., N., Grand Forks, 16000457

OHIO

Butler County

Downtown Historic District, 135-245 & 250-358 High, 9-21 N. 3rd, 6-222 S. 2nd, 2-306 & 11-301 S. 3rd, 105-309 & 224-234 Court & 311-316 Ludlow Sts., Hamilton, 16000458

Franklin County

Lubal Manufacturing and Distributing Company, The, 373-375 W. Rich St., Columbus, 16000459

Greene County

Wright Brothers Hill—Memorial, Memorial Dr., Wright-Patterson AFB, 16000460

Montgomery County

Bimm Fireproof Warehouse, (Webster Station Area, Dayton, Ohio MPS) 315 E. 1st St., Dayton, 16000461

Delco Building, (Webster Station Area, Dayton, Ohio MPS) 329 E. 1st St., Dayton, 16000462

SOUTH CAROLINA

Greenville County

Wilkins, William and Harriet, House, 105 Mills Ave., Greenville, 16000463

WASHINGTON

King County

University of Washington Faculty Club, 4020 E. Stephens Way, Seattle, 16000464

WISCONSIN

Green Lake County

Berlin High School, 289 E. Huron St., Berlin, 16000465

Authority: 60.13 of 36 CFR part 60.

Dated: June 9, 2016.
J. Paul Loether,
Chief, National Register of Historic Places/National Historic Landmarks Program.

[FR Doc. 2016-15084 Filed 6-24-16; 8:45 am]

BILLING CODE 4312-51-P